NUCLEAR REGULATORY COMMISSION

Advisory Committee on the Medical Uses of Isotopes: Meeting Notice

AGENCY: U.S. Nuclear Regulatory Commission.

ACTION: Notice of meeting.

SUMMARY: The U.S. Nuclear Regulatory Commission will convene a teleconference meeting of the Advisory Committee on the Medical Uses of Isotopes (ACMUI) on December 12, 2007 to review and vote on an upcoming issue with regards to the medical use of byproduct material. A copy of the agenda for the meeting will be available at http://www.nrc.gov/reading-rm/doc-collections/acmui/agenda or by contacting Ms. Ashley M. Tull using the information below.

DATES: The teleconference meeting will be held on Wednesday, December 12, 2007, from 12 p.m. to 12:30 p.m. Eastern Standard Time.

Public Participation: Any member of the public who wishes to participate in the teleconference discussion should contact Ms. Tull using the contact information below.

Contact Information: Ashley M. Tull, e-mail: amt1@nrc.gov, telephone: (918) 488-0552 or (301) 415-5294.

Conduct of the Meeting

Leon S. Malmud, M.D., will chair the meeting. Dr. Malmud will conduct the meeting in a manner that will facilitate the orderly conduct of business. The following procedures apply to public participation in the meeting:

1. Persons who wish to provide a written statement should submit an electronic copy to Ms. Tull at the contact information listed above. All submittals must be received by December 7, 2007, and must pertain to the topic on the agenda for the meeting.

2. Questions and comments from members of the public will be permitted during the meeting, at the discretion of the Chairman.

3. The transcript and written comments will be available for inspection on NRC's Web site (http://www.nrc.gov) and at the NRC Public Document Room, 11555 Rockville Pike, Rockville, MD 20852-2738, telephone (800) 397-4209, on or about February 12, 2008. Minutes of the meeting will be available on or about January 30, 2008.

This meeting will be held in accordance with the Atomic Energy Act of 1954, as amended (primarily Section 161a); the Federal Advisory Committee Act (5 U.S.C. App); and the Commission's regulations in Title 10, U.S. Code of Federal Regulations, Part 7.

Dated: November 19, 2007.
Andrew L. Bates,
Advisory Committee Management Officer.

[FR Doc. E7-22948 Filed 11-23-07; 8:45 am]

BILLING CODE 7590-01-P